DEPARTMENT OF TRANSPORTATION

Federal Aviation Administration

[Summary Notice No. PE-2009-11]

Petition for Exemption; Summary of Petition Received

AGENCY: Federal Aviation Administration (FAA), DOT.

ACTION: Notice of petition for exemption received.

SUMMARY: This notice contains a summary of a petition seeking relief from specified requirements of 14 CFR. The purpose of this notice is to improve the public's awareness of, and participation in, this aspect of FAA's regulatory activities. Neither publication of this notice nor the inclusion or omission of information in the summary is intended to affect the legal status of the petition or its final disposition.

DATES: Comments on this petition must identify the petition docket number involved and must be received on or before April 14, 2009.

ADDRESSES: You may send comments identified by Docket Number FAA-2009-0083 using any of the following methods:

• Government-wide rulemaking Web site: Go to http://www.regulations.gov and follow the instructions for sending your comments electronically.

• Mail: Send comments to the Docket Management Facility; U.S. Department of Transportation (DOT), 1200 New Jersey Avenue, SE., West Building Ground Floor, Room W12-140, Washington, DC 20590.

• Fax: Fax comments to the Docket Management Facility at 202-493-2251.

• Hand Delivery: Bring comments to the Docket Management Facility in Room W12-140 of the West Building Ground Floor at 1200 New Jersey Avenue, SE., Washington, DC, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue, SE., Washington, DC, between 9 a.m. and 5 p.m., Monday through Friday, except Federal holidays.

FOR FURTHER INFORMATION CONTACT: Laverne Brunache (202) 267-3133 or Tyneka Thomas (202) 267-7626, Office of Rulemaking, Federal Aviation Administration, 800 Independence Avenue, SW., Washington, DC 20591.

This notice is published pursuant to 14 CFR 11.85.

Issued in Washington, DC, on March 20, 2009.
Pamela Hamilton-Powell,
Director, Office of Rulemaking.

Petition for Exemption

Docket No.: FAA-2009-0083.

Petitioner: CitationShares Management, LLC.

Section of 14 CFR Affected: 14 CFR 91.23, 91.1001.

Description of Relief Sought: CitationShares Management, LLC (CM), a fractional program manager and certificated air carrier, has petitioned the Federal Aviation Administration to provide an exemption from the following regulations pertaining to part 91 subpart K fractional ownership operations:

(1) CM requests an exemption from § 91.1001 to the extent necessary to clarify that “fractional owner or owner,” and “fractional ownership interest,” as defined in § 91.1001(b)(3) and (b)(4), of subpart K, are not limited to FAA registered owners but may include a beneficial owner or beneficial ownership interest arising under a single Delaware statutory trust structure outlined in the CM Fractional Program Trust Structure;

(2) CM requests an exemption from § 91.1001 to the extent necessary to clarify that “dry lease exchange,” as defined in § 91.1001(b)(2) of subpart K, may include the arrangement for exchange of aircraft arising under the CM Fractional Program Trust Structure; and

(3) CM requests an exemption from § 91.23 to the extent necessary to confirm that the arrangements among and between the fractional owners and CM, in its capacity as a part 135 certificate holder, does not require further compliance with that section.

The purpose of the exemption would be to permit CM to implement a Fractional Program Trust Structure for ownership, registration, and operation of fractional ownership program aircraft. A key feature of the proposed structure is that participating fractional owners would no longer hold legal title to a fractional share of a program aircraft. Instead, a Delaware statutory trust would hold legal title to the entire aircraft, and fractional ownership program participants would be beneficial owners of a series in the trust. CM would act as the fractional ownership program manager, would administer the statutory trust, and would continue operating program aircraft as a part 135 certificate holder. The CM Fractional Program Trust Structure would continue to follow the operational control provisions as set forth in §§ 91.1009-91.1013 of subpart K.

Additionally, CM seeks an exemption from § 91.1001 pertaining to dry-lease aircraft exchanges. Under the CM Fractional Program Trust Structure, there would not be a dry-lease aircraft exchange arrangement among all of the fractional owners. Instead, CM would hold a lease to the program aircraft entered into a statutory trust, and fractional owners would have access to all of the program aircraft, without crew, on an as needed basis through a sublease directly from CM.

Finally, CM requests an exemption from § 91.23, the truth-in-leasing requirements in leases and conditional sales contracts, to confirm that those requirements would not be applicable to the dry-lease exchange component of the CM Fractional Program Trust Structure because CM is a part 135 certificate holder.

[FR Doc. E9-6563 Filed 3-24-09; 8:45 am]

BILLING CODE 4910-13-P